DEPARTMENT OF COMMERCE

International Trade Administration

[A-570-049]

Ammonium Sulfate From the People's Republic of China: Final Results of the Expedited First Sunset Review of the Antidumping Duty Order

AGENCY: Enforcement and Compliance, International Trade Administration, Department of Commerce.

SUMMARY: As a result of this expedited sunset review, the Department of Commerce (Commerce) finds that revocation of the antidumping duty (AD) order on ammonium sulfate from the People's Republic of China (China) would likely lead to the continuation or recurrence of dumping at the levels indicated in the “Final Results of Review” section of this notice.

DATES: Applicable June 8, 2022.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On May 9, 2017, Commerce published the AD order on imports of ammonium sulfate from China.¹ On February 1, 2022, Commerce published the notice of initiation of the first sunset review of the Order, pursuant to section 751(c) of the Tariff Act of 1930, as amended (the Act).² On February 14, 2022, Commerce received a notice of intent to participate from the Committee for Fair Trade in Ammonium Sulfate (the domestic interested party),³ within the 15-day deadline specified in 19 CFR 351.218(d)(1)(i).⁴ The domestic interested party claims interested party status under section 771(9)(C) and (E) of the Act, as a trade or business association a majority of whose members manufacture, produce, or wholesale a domestic like product.⁵ On February 25, 2022, Commerce received a timely and adequate substantive response to the notice of initiation from the domestic interested party within the 30-day deadline specified in 19 CFR 351.218(d)(3)(i).⁶ Commerce received no substantive responses from any other interested parties.

¹ See Ammonium Sulfate from the People's Republic of China: Antidumping Duty and Countervailing Duty Orders, 82 FR 13094 (March 9, 2017) (Order).

² See Initiation of Five-Year (Sunset) Reviews, 87 FR 5467 (February 1, 2022) (Initiation Notice).

³ The Committee for Fair Trade in Ammonium Sulfate is an association of AdvanSix Inc. and PCI Nitrogen, LLC.

⁴ See Domestic Interested Party's Letter, “Five-Year (`Sunset') Review of Antidumping Duty Order on Ammonium Sulfate from The People's Republic of China: Domestic Interested Party's Notice of Intent to Participate,” dated February 14, 2022.

⁵ Id. at 2.

⁶ See Domestic Interested Party's Letter, “Five-Year (`Sunset') Review of Antidumping Duty Order on Ammonium Sulfate from The People's Republic of China: Domestic Interested Party's Substantive Response to Notice of Initiation,” dated February 25, 2022 (Substantive Response).

On March 21, 2022, Commerce notified the U.S. International Trade Commission that we did not receive an adequate substantive response from respondent interested parties.⁷ As a result of the above, pursuant to section 751(c)(3)(B) of the Act and 19 CFR 351.218(e)(1)(ii)(C), Commerce is conducting an expedited (120-day) sunset review of the Order.

⁷ See Commerce's Letter, “Sunset Reviews Initiated on February 1, 2022,” dated March 21, 2022.

Scope of the Order

The merchandise covered by the Order is ammonium sulfate. For a complete description of the scope of the Order, see Issues and Decision Memorandum signed concurrently with this notice.⁸

⁸ See Memorandum, “Issues and Decision Memorandum for the Final Results of the Expedited First Sunset Review of the Antidumping Duty Order on Ammonium Sulfate from the People's Republic of China,” dated concurrently with, and hereby adopted by, this notice (Issues and Decision Memorandum).

Analysis of Comments Received

All issues raised in this sunset review are addressed in the accompanying Issues and Decision Memorandum,⁹ which is hereby adopted by this notice. The issues discussed in the Issues and Decision Memorandum are listed in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://access.trade.gov/public/FRNoticesListLayout.aspx.

⁹ See Issues and Decision Memorandum.

Final Results of Review

Pursuant to sections 751(c)(1) and 752(c)(1) and (3) of the Act, Commerce determines that revocation of the Order would be likely to lead to the continuation or recurrence of dumping, and the magnitude of the weighted-average dumping margin likely to prevail is up to 493.46 percent.

Administrative Protective Order (APO)

This notice also serves as the only reminder to parties subject to APO of their responsibility concerning the return or destruction of proprietary information disclosed under APO in accordance with 19 CFR 351.305. Timely notification of the return or destruction of APO materials, or conversion to judicial protective orders is hereby requested. Failure to comply with the regulations and terms of an APO is a violation which is subject to sanction.

Notification to Interested Parties

We are issuing and publishing these final results and notice in accordance with sections 751(c), 752(c), 771(i)(1) of the Act, and 19 CFR 351.218(e)(1)(ii)(C)(2) and 351.221(c)(5).

Dated: June 1, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Dumping Margin Likely to Prevail

VII. Final Results of Sunset Review

VIII. Recommendation

[FR Doc. 2022-12313 Filed 6-7-22; 8:45 am]

BILLING CODE 3510-DS-P